DEPARTMENT OF JUSTICE

National Institute of Corrections

Solicitation for a Cooperative Agreement—Children of Prisoners From High Crime/Incarceration Communities

AGENCY: National Institute of Corrections, Department of Justice.

ACTION: Solicitation for a Cooperative Agreement.

SUMMARY: This is one of five solicitations to address issues of children who have experienced parental incarceration. Up to $1.675 million will be awarded to three (3) to five (5) private and/or non profit agencies for 36 months. The purpose is to develop three-year demonstration programs to enhance opportunities for positive life experiences and outcomes for children/youth living in communities which have high crime and/or incarceration rates. Up to one year may be spent planning the programs, the second and third years will focus on program implementation and evaluation.

Background

The Department of Justice (DOJ), National Institute of Corrections (NIC), announces the availability of funds for fiscal year 2001 for five (5) solicitations to fund projects for children of incarcerated or formerly incarcerated parents. Congress appropriated $4 million to NIC “to work with cooperative agreements to fund private sector or not for profit groups that have effective, tested programs to help children of prisoners”. These cooperative agreements may be for up to three (3) years.

To prepare for this solicitation, NIC convened a Children of Prisoners planning meeting, inviting federal and state government, association, academic and private provider representatives. The goals of the two-day meeting were to: (1) Identify the problems and issues that children of prisoners or former prisoners face that put them at risk of potential future delinquency; (2) identify the problems and greatest needs of incarcerated parents/caretakers of these children; (3) identify and describe evidence-based and promising approaches to support these children and prevent their future delinquency; and (4) describe and prioritize how the newly appropriated funds can best address these issues.

Based on this meeting, NIC staff is announcing the following five (5) solicitation:

1. Resource Center—Up to $1 million for 36 months will be awarded to one (1) organization or group (joint applications are encouraged) to provide training and technical assistance, develop a plan for a public awareness program, support and manage an advisory group, and develop and conduct, as appropriate, process and outcome evaluations with awardees.

2. Planning Awards—Three (3), 18-month planning awards, of up to $100,000 each will be made to three private or non profit agencies in three different jurisdictions. The purpose of this solicitation is to assist three (3) jurisdictions to develop a comprehensive plan for the delivery of services to a clearly identified target population of children/youth who have been traumatized or damaged as a result of parental incarceration. These awards will be given to agencies that create or build on an existing collaborative planning process. All applications must include the appropriate Federal, State and/or local agency/agencies.

3. Awards to Communities with High Crime and High Incarceration Rates—(This announcement) Up to $1.675 million will be awarded to three (3) to five (5) private and/or non profit agencies working with children living in communities with high crime and incarceration rates. The purpose is to develop three-year demonstration programs. Up to one year will be spent planning the programs, the second and third years will focus on program implementation and evaluation.

4. Children of Parents in Prison—(This announcement) Three-year demonstration awards to two (2) agencies that work with children of parents held in State or Federal prisons. A total of $500,000 will be available for these awards. One award will be $30,000 per year and one will be for $135,000 a year. Planning must be an integral part of the application.

5. Children of Parents in Jail—Three-year demonstration awards to two (2) agencies that work with children of parents in jail. A total of $500,000 will be available for these awards. One award will be for $30,000 per year and one will be for $135,000 a year. Planning must be an integral part of the application.

Applicants may apply for more than one solicitation.

Information About This Population: According to Senate Report 106-404 from the FY2001 DOJ appropriations bill, “* * * children of prisoners are six times more likely than other children to be incarcerated at some point in their lives * * *”. Yet, little research and few programs have targeted children of offenders.

The number of men and women confined in prisons and jails has increased in the 1990s from just under 1.2 million to 1.9 million. The Bureau of Justice Statistics in its August 2000 Bulletin, “Incarcerated Parents and Their Children”, states that 721,500 State and Federal inmates are parents to nearly 1.5 million children under the age of 18, an in crease of 500,000 children in the past 8 years. This means that 2.1% of all children in the United States have a parent in State or Federal prison. The number of children of parents in detention is not known, but half of all youth in custody have a parent or close relative who has been in jail.

Prior to prison admission, 64% of the women and 44% of the men lived with their children. Once incarcerated, 90% of the men indicated that at least one child lived with his/her mother; 28% of the women said the father was the child's care giver. One in five of these children was under 5 years of age, and the majority were less than 10 years old. Black children were nearly 9 times more likely to have a parent in prison than white children, and Hispanic children were 3 times more likely than white children to have an imprisoned parent.

While the number of fathers in prison far outweighs the number of mothers, it is mostly the mothers who were primary care givers before incarceration. When fathers are incarcerated, the care giver usually becomes the mother; when the mother is confined, the care giver often becomes the child's grandparent or other relative. Three of four parents in State prisons reported a prior conviction compared to one out of three in Federal prisons. Many children, then, have experienced more than one parental separation.

Parental arrest and confinement lead to stress, trauma, stigmatization and separation problems for the children. These problems are coupled with existing problems that include poverty, violence, parental substance abuse, high crime environments, intrafamily abuse, abuse and neglect, multiple care givers and/or prior separations. As a result, these children often exhibit a broad variety of behavioral, emotional, health and educational problems that are compounded by the pain of separation.

Denise Johnston from the Center for Children of Incarcerated Parents in California found that early childhood (between the ages of 2-6) may be the most damaging time for parent-child separation as the child remembers the trauma but cannot adjust to it without help. For those who do not receive assistance or who cannot process the separation for themselves, these children's behaviors can become increasingly maladaptive as they grow up, leading to strong negative feelings about the criminal justice and welfare systems, delinquency, poor school performance and other antisocial behaviors.

There are a handful of programs around the country that work with these children. The Child Welfare League of America has published, “Working with Children and Families Separated by Incarceration”, a handbook for child welfare agencies and staff. There is also a major initiative funded by the U.S. Department of Health and Human Services, the goals of which are to: (1) Develop a research and practice baseline on the effects of incarceration on prisoners and their children, families and communities; (2) document the intersection of populations within the criminal justice system and populations served by HHS programs; (3) determine unmet health and human services needs of offenders and their families left behind in the community; and (4) ensure that HHS takes into account the effects of incarceration on the children and families of inmates. HHS has commissioned a literature review and nine papers to explore what is known and what is knowable about these issues.

Statement of Principles: NIC requires that all proposals will:

1. Be child focused as the goal is to help the child become stable and self assured with a strong, positive sense of self.

2. Explain which stage(s) of child development will be addressed. Programs will focus on infancy, early or middle childhood, and/or early or late adolescence.

3. Ensure that programs have a sound theoretical basis.

4. Incorporate what is known about the crisis issues around separation of the child from his/her parent.

5. Improve the child/family relationship, where appropriate, by creating a family-friendly planning environment and subsequent program delivery.

6. Add to the current limited body of research on these children.

7. Include a “collaborative” planning group that will continue into the service delivery phase. The “collaborative” will include the lead agency, appropriate governmental agencies, and others as appropriate, such as private providers, advocacy groups, academic institutions, and public schools.

Resource Assistance: Once an award has been made for the Resource Center solicitation, awardees will receive training and technical assistance, as needed, from Resource Center staff. The length and scope of this assistance will depend on the awardees' specific interests. The Resource Center will also provide assistance in developing and implementing the outcome evaluations that will accompany each cooperative agreement and will budget for this assistance. The Resource Center will be responsible for developing a data collection plan for the outcome evaluations. Awardees for this solicitation will be responsible for collecting the data. Awardees will also develop their own process evaluations.

Up to one year may be spent planning and developing services. If that is the case, the implementation phase (Years 2 and 3) will not be as detailed as the planning phase, but it will include an outline of what the collaborative hopes to achieve and how they hope to achieve it.

Goals and Objectives of this Solicitation: Cooperative agreements will be awarded to agencies operating in communities with high crime and high incarceration rates. The twin goals are to reduce children's trauma, stigmatization and stress of separation caused by parental incarceration and enhance opportunities for positive life experiences and outcomes for children/youth whose parents have experienced incarceration. Up to one year may be spent developing a service delivery plan that will include, but not be limited to, data collection and analysis that will define the problem, identifying the target population, resources needed, types of service options and a process evaluation.

The plan will identify the developmental stage(s) of the target population and will look to provide a continuum of services across criminal and juvenile justice, child welfare, education and health, employment and housing systems. It will also take into account the cultural diversity of the community. Where possible, it will include the identification of additional funding from other sources, either public or private, to ensure that the services will continue beyond NIC's three-year funding commitment.

This plan will be developed by a group of collaborating agencies that will have direct involvement in its implementation. Among the types of potential types of agencies that may be included are local service providers, researchers, government agencies (e.g., criminal and juvenile justice, child welfare), educators, medical and mental health providers and advocacy groups).

These awards will encourage communities to focus on multi-systemic approaches to alleviating the range of problems associated with children/youth of incarcerated parents. The goal of this project is work with children and the communities in which they live, using positive child and family focused strategies that have shown promising or significant outcomes with similar populations, e.g., low income, at risk children and youth.

It is understood that, when working with children/youth in high crime/high incarceration communities, not all children involved with a program will have experienced parental incarceration. It will be the responsibility of the awardee to, at some point in the program, define which children have or have not had an incarcerated parent and keep records on each separate group.

The following three objectives will be required: (1) Develop services that improve child/parent relationships, where appropriate; (2) approach the services from a child development perspective; and (3) demonstrate cultural sensitivity in program design and implementation. Additional objectives will include four or more of the following:

• Reduce violence, including family violence, maltreatment, stress and other trauma in children's lives and the lives of their care givers.

• Approach the planning process and service delivery system from a child development perspective.

• Develop education goals that measure academic and other school successes.

• Develop and implement a parenting education program.

• Provide wraparound services for children/youth.

• Develop supportive relationships between child and primary care giver and/or mentor.

• Develop and implement strategies to positively integrate children into the life of the community.

• Improve housing/living environment and parental employment capabilities and opportunities within the community.

• Improve medical and mental health services and access to them for children/youth and their care givers.

• Assess the quality of care a child/youth receives while the parent is incarcerated and develop a plan to address any deficiencies.

Assess existing community support for these children/youth.

If there are additional outcomes that are appropriate for your community, include them in the proposal.

Each proposal will include process and outcome evaluations in order to demonstrate the effectiveness of the planning and service delivery methods. The Resource Center will provide assistance in designing evaluation instruments and will conduct the outcome evaluation. The Resource Center will include funds for the outcome evaluation. It will be up to the awardees to collect the data for the outcome evaluation instrument designed by the Resource Center. Awardees will develop, implement and budget for their own process evaluation.

Application Requirements: The applicant must:

1. Provide a statement of the problem that includes, but is not limited to, data to demonstrate that the proposed jurisdiction is a high crime/high incarceration jurisdiction; issues faced by children/youth separated from their primary care givers; identification of the target population and the reasons for their selection; and a description of the community's cultural characteristics. It will also address child development stages and how separation from parents may impact children/youth at each of these stages.

2. Describe the planning and service delivery goals and objectives within a continuum of services based on what is known about the general developmental needs of these children/youth.

3. Describe the planning process and service delivery project(s) as they related to the goals and objectives. If there is a substantial planning process, the service delivery program may not be described in detail as it will result from the planning process. However, the proposal should include the types of programs that will be considered, the resources required and the ages of the children/youth to be served.

4. Describe the planning process that will occur during Year 1, including , but not limited to, the following:

a. Identify the specific agencies or types of agencies that will be part of the planning collaborative and the constituencies they represent. The relevant government agencies must be included. Letters of support must be provided from all government agencies and at least half of the remaining agencies.

b. Identify the goals and objectives of the planning process.

c. Describe the planning design, including, but not limited to, the planning collaborative's proposed tasks and the roles and responsibilities of the lead agency and collaborative agencies. Each agency's representative should have sufficient authority to make decisions for his/her respective agency.

e. Describe how additional funds, if any, will be secured, including commitment letters that have been obtained during the application process.

f. Present a timeline for the plan.

g. Describe the purpose of the process evaluation, how it will be developed and who will conduct it. Describe the process for conducting the outcome evaluation.

h. Present a three-year management plan, describe the experience and expertise of key staff, including resumes, and how they will work with NIC and Resource Center staff.

i. Develop a budget and budget narrative for Year 1, including funding for the process evaluation.

5. By the end of the planning process, develop the implementation plan for Years 2 and 3 that includes a service delivery model. The plan will include, but not be limited to:

a. The theoretical reasons behind the interventions chosen for the implementation.

b. Multi-system approaches to developing intervention programs.

c. Multi-agency collaboration for the delivery of services.

d. Continuum of care model.

e. Programs that account for the developmental stages of the targeted population of children/youth.

f. Process for identifying children who have experienced parental incarceration and separate record keeping to articulate differences, if any, with children whose parents have not been incarcerated.

g. Continuation of the planning collaborative beyond this funding initiative.

h. Timeline for implementation and evaluation, including proposed impact on the targeted population.

i. Estimated budgets for Years 2 and 3.

NIC will approve all service delivery plans prior to implementation.

6. Prepare a yearly and final project report.

7. Applications are limited to 25 double spaced pages using a 12 point font, not including letters of support, resumes, other supporting documents and SF-424 forms. Provide 6 copies of the application, including one that is not bound. One unbound copy must be signed in blue ink by the agency administrator or chief executive officer.

Authority: Public Law 93-415.

Funds Available: There is $1.675 million available for three to five cooperative agreement awards. Each award will be for a 36 month project. Awards will be made to private and/or non profit agencies working collaboratively with appropriate government agencies. At this time, there are no plans for additional funding in the future.

Deadline for Receipt of Application: Applications must be received at the NIC offices by 4 p.m. EDT on August 2, 2001. They should be addressed to: Director, National Institute of Corrections, 320 First Street, NW, Room 5007, Washington, DC 20534. Hand delivered applications may be brought to 500 First Street, NW, Washington, DC 20534. The front desk will call Germaine Jefferson or Bobbi Tinsley at 202-307-3106 ext. 0 for pickup.

Addresses and Further Information: Requests for the application kit, which consists of copies of this announcement and the required forms, should be downloaded from the NIC website at http://www/nicic.org. Click on “Cooperative Agreements”.

All technical and/or programmatic questions concerning this announcement should be directed to Mary Whitaker at the above address or by calling 800-995-6423, extension 40378, or 202-514-0378 or by e-mail via mwhitaker@bop.gov

All specific questions regarding the application process should be directed to July Evens, Cooperative Agreement Control Office, National Institute of Corrections, 320 First Street, NW, Room 5007, Washington, DC 20534 or by calling 800-995-6423, ext. 44222 or 202-307-3106, extension 44222 or by e-mail via jevens@bop.gov

Eligible Applicants: Applicants are restricted to private and not for profit agencies as government agencies are not eligible to apply for these funds. Appropriate government agencies, e.g., juvenile detention centers and probation agencies, jails, prisons, community based facilities, and private juvenile and adult correctional facilities, must be included in the planning process and will be required to submit letters of support.

Review Considerations: Applications will be reviewed by a three-to five-member team using a peer review process.

Number of Awards: Three (3) to five (5)

NIC Application Number: NIC application number is 01K62. This number should appear as a reference line in the cover letter and also in box 11 of Standard Form 424. This number must also appear on the outside of the package in which the application arrives at NIC.

Catalog of Federal Domestic Assistance: 16.602. This application is not subject to Executive Order 12372.

Dated: June 18, 2001.
Morris L. Thigpen,
Director, National Institute of Corrections.

[FR Doc. 01-15690 Filed 6-21-01; 8:45 am]

BILLING CODE 4410-36-M